DEPARTMENT OF HEALTH AND HUMAN SERVICES

Centers for Disease Control and Prevention

[60Day-17-1074; Docket No. CDC-2016-0123]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on the revision of the information collection entitled “Colorectal Cancer Control Program (CRCCP) Monitoring Activities.” The change to the collection will include a redesigned survey and a redesigned clinic-level data collection template.

DATES: Written comments must be received on or before February 28, 2017.

ADDRESSES: You may submit comments, identified by Docket No. CDC-2016-0123 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Colorectal Cancer Control Program (CRCCP) Monitoring Activities—(OMB Control No. 0920-1074, exp. 6/30/2018)—Revision—National Center for Chronic Disease Prevention and Health Promotion (NCCDPHP), Centers for Disease Control and Prevention (CDC).

Background and Brief Description

CDC is requesting a revision of the information collection approved under OMB Control Number 0920-1074. Based on feedback from grantees and internal subject matter experts, CDC proposes use of a revised annual grantee survey instrument, as well as a revised clinic-level data collection template. The number of respondents will also decrease from 31 to 30 grantees. Total estimated annualized burden will decrease. OMB approval is requested for three years.

Colorectal cancer (CRC) is the second leading cause of death from cancer in the United States among cancers that affect both men and women. CRC screening has been shown to reduce incidence of and death from the disease. Screening for CRC can detect disease early when treatment is more effective and prevent cancer by finding and removing precancerous polyps. Of individuals diagnosed with early stage CRC, more than 90% live five or more years. Despite strong evidence supporting screening, only 65% of adults currently report being up-to-date with CRC screening as recommended by the U.S. Preventive Services Task Force, with more than 22 million age-eligible adults estimated to be untested. To reduce CRC morbidity, mortality, and associated costs, use of CRC screening tests must be increased among age-eligible adults with the lowest CRC screening rates.

CDC's Colorectal Cancer Control Program (CRCCP) currently provides funding to 30 grantees under “Organized Approaches to Increase Colorectal Cancer Screening” (CDC-RFA-DP15-1502). CRCCP grantees include state governments or bona-fide agents, universities, and tribal organizations. The purpose of the cooperative agreement program is to increase CRC screening rates among an applicant defined target population of persons 50-75 years of age within a partner health system serving a defined geographical area or disparate population. The CDC significantly redesigned the CRCCP in 2015. The CRCCP has two components.

Component 1: Funding for component 1 is limited to partnerships with health systems to implement up to four priority evidence-based interventions (EBIs) described in the Guide to Community Preventive Services as well as other supporting strategies. Grantees must implement at least two EBIs in each partnering health system. All 30 CRCCP grantees received Component 1 funding.

Component 2: Funding for component 2 is used by grantees to provide direct screening and follow-up clinical services for a limited number of individuals aged 50-64 in the program's priority population who are asymptomatic, at average risk for CRC, have inadequate or no health insurance for CRC screening, and are low income. Six of the 30 CRCCP grantees received Component 2 funding.

Two forms of data collection have been implemented to assess program processes and outcomes. In Program Year 1, the annual grantee survey monitored grantee program implementation, including (1) program management, (2) implementation of the EBIs and Supporting Activities (SAs) (3) health information technology (IT), (4) partnerships, (5) data use, (6) training and technical assistance (TA), and (7) clinical service delivery (for programs receiving Component 2 funding only). Clinic-level data collection assessed CRCCP's primary outcome of interest—CRC screening rates within partner health systems—by measuring the following components: (1) Partner health system, clinic, and patient population characteristics, (2) reporting period (for screening rates), (3) Chart review screening rate data, (4) Electronic Health Record (EHR) screening rate, and (5) Priority evidence-based EBIs and SAs. CRCCP grantees collected and reported CRCCP clinic-level information for all partnering health system primary care clinic sites.

For Program Years 2-5, based on feedback from grantees, CDC proposes use of updated data collection instruments. Specifically, CDC plans to implement a revised CRCCP annual grantee survey that eliminates survey items related to implementation of EBIs and SAs as these data are more accurately reported at the clinic level. Conversely, CDC plans to implement a revised CRCCP clinic-level data collection template that includes additional data variables related to implementation of EBIs and SAs, as well as monitoring and evaluation activities, at the clinic level.

Redesigned data elements will enable CDC to better gauge progress in meeting CRCCP program goals and monitor implementation activities, evaluate outcomes, and identify grantee technical assistance needs. In addition, data collected will inform program improvement and help identify successful activities that need to be maintained, replicated, or expanded.

OMB approval is requested for three years. The number of grantees decreased from 31 grantees in program year one to 30 grantees in program year two. In addition, the total estimated annualized burden hours have decreased from 210 to 204 hours. There are no costs to respondents other than their time.

Estimated Annualized Burden Hours
Type of respondent | Form name | Number of respondents | Number of responses per respondent | Average burden per response (in hours) | Total burden (in hours)
CRCCP Grantees | CRCCP Annual Grantee Survey | 30 | 1 | 24/60 | 12
| CRCCP Clinic-level Information Collection Template | 30 | 12 | 32/60 | 192
Total |  |  |  |  | 204

Leroy A. Richardson,
Chief, Information Collection Review Office, Office of Scientific Integrity, Office of the Associate Director for Science, Office of the Director, Centers for Disease Control and Prevention.

[FR Doc. 2016-31740 Filed 12-29-16; 8:45 am]

BILLING CODE 4163-18-P